ENVIRONMENTAL PROTECTION AGENCY

[ER-FRL-6617-9]

Environmental Impacts Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at (202) 564-7167.

An explanation of the ratings assigned to draft environmental impact statements(EISs) was published in FR dated April 14, 2000 (65 FR 20157) .

Draft EISs

ERP No. DA-FAA-F51040-IN Rating EC2 , Indianapolis International Airport Master Plan Development, Updated Information to Construct a Midfield Terminal, Midfield Interchange, and Associated Developments, Airport Layout Plan Approval,Funding and Section 404 Permit, Marion County, IN

Summary: EPA continues to express concerns relating to the mitigation being provided for compensatory forested wetlands.

ERP No. DS-FTA-K40130-CA Rating LO , Los Angeles Eastside Corridor Transportation Improvement,Updated Information for Light Rail Transit (LRT) Build Alternative and the Three Transition Options, Extending from Union Station to Beverly and Atlantic Boulevards in East Los Angeles, via Alameda St., 1st. Street, Indiana St., 3rd Street, and Beverly Boulevard, Los Angeles County, CA

Summary: EPA found that the document adequately discussed the environmental impacts of the proposed project.

Final EISs

ERP No. F-FHW-G40151-TX, US-190 Corridor from FM2657 to the East City Limits of Copperas Cove,Transportation Improvements, Major Investment Study,Coryell and Lampasas Counties, TX

Summary: EPA has completed its review of the Final EIS and has no objection to the selection of the preferred alternative.

ERP No. F-NOA-A91066-00, Tilefish Fishery Management Plan (FMP), (Lopholatilus Chamaeleonticep),To Prevent Overfishing and to Rebuild the Resource of Tilefish,Located along the Atlantic Ocean

Summary: EPA had environmental concerns about the proposed regulations and the sufficiency of the information in the document. EPA's concerns included the adequacy of the mitigation measures and the impacts of trawling on Tilefish EFH.

ERP No. F-NOA-K91008-00, Pelagic Fisheries of the Western Pacific Region, Fishery Management Plan,To Analyze Longline Fisheries, Commercial Troll and Recreational Troll Fisheries, Commercial Pelagic Handliner and Commercial Pole and Line Skipjack Fishery,Hawaii, American Samoa, Guam and Commonwealth of the Northern Mariana Island

Summary: EPA reviewed the FEIS and found that the document adequately addresses the issues raised in our comment letter on the DEIS.

ERP No. F-FHW-H40168-MO, New Mississippi River Crossing, Relocated I-70 and I-64 Connector, Funding,COE Section 404 and 10 Permits, NPDES Permit, St. Louis County, MO

Summary: EPA has no objections to this project as proposed.

Dated: May 8, 2001.
Joseph C. Montgomery,
Director, NEPA Compliance Division, Office of Federal Activities.

[FR Doc. 01-11955 Filed 5-10-01; 8:45 am]

BILLING CODE 6560-50-U